DEPARTMENT OF ENERGY

Federal Energy Regulatory Commission

Notice of Staff Attendance at The Southwest Power Pool, Inc. Regional Entity Trustee, Regional State Committee, Members Committee, and Board of Directors Meetings

The Federal Energy Regulatory Commission (Commission) hereby gives notice that members of its staff may attend the meetings of the Southwest Power Pool, Inc. Regional State Committee (RSC), Regional Entity Trustee (RET), Members Committee, and Board of Directors, as noted below. Their attendance is part of the Commission's ongoing outreach efforts.

The meetings will be held at the InterContinental at the Plaza, 401 Ward Parkway, Kansas City, MO 64112. The phone number is (816) 756-1500. All meetings are Central Time.

SPP RET—April 23, 2018 (8:00 a.m.—5:00 p.m.).

SPP RSC—April 23, 2018 (1:00 p.m.—5:00 p.m.).

SPP Members/Board of Directors—April 24, 2018 (8:00 a.m.—3:00 p.m.).

The discussions may address matters at issue in the following proceedings:

Docket No. ER12-1179, Southwest Power Pool, Inc.

Docket No. ER14-2850, Southwest Power Pool, Inc.

Docket No. ER14-2851, Southwest Power Pool, Inc.

Docket No. ER15-2028, Southwest Power Pool, Inc.

Docket No. ER15-2115, Southwest Power Pool, Inc.

Docket No. ER15-2237, Kanstar Transmission, LLC

Docket No. ER15-2594, South Central MCN LLC

Docket No. EL16-91, Southwest Power Pool, Inc.

Docket No. EL16-108, Tilton Energy v. Midcontinent Independent System Operator, Inc.

Docket No. EL16-110, Southwest Power Pool, Inc.

Docket No. ER16-204, Southwest Power Pool, Inc.

Docket No. ER16-2522, Southwest Power Pool, Inc.

Docket No. ER16-2523, Southwest Power Pool, Inc.

Docket No. EL17-11, Alabama Power Co. v. Southwest Power Pool, Inc.

Docket No. EL17-21, Kansas Electric Co. v. Southwest Power Pool, Inc.

Docket No. EL17-69, Buffalo Dunes et al. v. Southwest Power Pool, Inc.

Docket No. EL17-89, American Electric Power Service Corporation v. Midcontinent Independent System Operator, Inc., et al.

Docket No. ER17-426, Southwest Power Pool, Inc.

Docket No. ER17-428, Southwest Power Pool, Inc.

Docket No. ER17-469, Southwest Power Pool, Inc.

Docket No. ER17-772, Southwest Power Pool, Inc.

Docket No. ER17-953, South Central MCN LLC

Docket No. ER17-1092, Southwest Power Pool, Inc.

Docket No. ER17-1575, Southwest Power Pool, Inc.

Docket No. ER17-1610, Southwest Power Pool, Inc.

Docket No. ER17-2229, Southwest Power Pool, Inc.

Docket No. EL18-9, Xcel Energy Services, Inc. v. Southwest Power Pool, Inc.

Docket No. EL18-12, ATX Southwest, LLC

Docket No. EL18-13, Transource Kansas, LLC

Docket No. EL18-14, Midwest Power Transmission Arkansas, LLC

Docket No. EL18-15, Kanstar Transmission, LLC

Docket No. EL18-16, South Central MCN, LLC

Docket No. EL18-19, Southwest Power Pool, Inc.

Docket No. EL18-20, Indicated SPP Transmission Owners v. Southwest Power Pool, Inc.

Docket No. EL18-26, EDF Renewable Energy, Inc. v. Midcontinent Independent System Operator, Inc., Southwest Power Pool, Inc., and PJM Interconnection, L.L.C.

Docket No. EL18-35, Southwest Power Pool, Inc.

Docket No. EL18-58, Oklahoma Municipal Power Authority v. Oklahoma Gas and Electric Co.

Docket No. ER18-99, Southwest Power Pool, Inc.

Docket No. ER18-171, Southwest Power Pool, Inc.

Docket No. ER18-194, Southwest Power Pool, Inc.

Docket No. ER18-195, Southwest Power Pool, Inc.

Docket No. ER18-374, Southwest Power Pool, Inc.

Docket No. ER18-499, Southwestern Electric Power Company

Docket No. ER18-500, Southwestern Electric Power Company

Docket No. ER18-564, South Central MCN LLC

Docket No. ER18-572, South Central MCN LLC

Docket No. ER18-591, Southwest Power Pool, Inc.

Docket No. ER18-660, Southwest Power Pool, Inc.

Docket No. ER18-727, Southwest Power Pool, Inc.

Docket No. ER18-736, Southwest Power Pool, Inc.

Docket No. ER18-748, Southwest Power Pool, Inc.

Docket No. ER18-753, Southwest Power Pool, Inc.

Docket No. ER18-754, Southwest Power Pool, Inc.

Docket No. ER18-757, Southwest Power Pool, Inc.

Docket No. ER18-762, Southwest Power Pool, Inc.

Docket No. ER18-763, Southwest Power Pool, Inc.

Docket No. ER18-769, Southwest Power Pool, Inc.

Docket No. ER18-770, Southwest Power Pool, Inc.

Docket No. ER18-792, Southwest Power Pool, Inc.

Docket No. ER18-801, Southwest Power Pool, Inc.

Docket No. ER18-819, Kansas City Power & Light Co.

Docket No. ER18-822, Kansas City Power & Light Co.

Docket No. ER18-824, Kansas City Power & Light Co.

Docket No. ER18-825, Kansas City Power & Light Co.

Docket No. ER18-831, Southwest Power Pool, Inc.

Docket No. ER18-840, Xcel Energy Services, Inc.

Docket No. ER18-854, Southwest Power Pool, Inc.

Docket No. ER18-875, Southwest Power Pool, Inc.

Docket No. ER18-876, Southwest Power Pool, Inc.

Docket No. ER18-878, Southwest Power Pool, Inc.

Docket No. ER18-895, Southwest Power Pool, Inc.

Docket No. ER18-939, Southwest Power Pool, Inc.

Docket No. ER18-985, Southwest Power Pool, Inc.

Docket No. ER18-995, Southwest Power Pool, Inc.

Docket No. ER18-1013, Southwest Power Pool, Inc.

Docket No. ER18-1078, Southwest Power Pool, Inc.

Docket No. ER18-1091, Southwest Power Pool, Inc.

Docket No. ER18-1093, Southwest Power Pool, Inc.

Docket No. ER18-1110, Southwest Power Pool, Inc.

Docket No. ER18-1195, Southwest Power Pool, Inc.

Docket No. ER18-1198, Southwest Power Pool, Inc.

Docket No. ER18-1209, Southwestern Electric Power Company

Docket No. ER18-1210, Southwestern Electric Power Company

Docket No. ER18-1212, Southwest Power Pool, Inc.

Docket No. ER18-1227, Southwestern Public Service Co.

Docket No. ER18-1234, Southwest Power Pool, Inc.

Docket No. ER18-1251, Kansas City Power and Light Company

Docket No. ER18-1267, South Central MCN LLC

Docket No. ER18-1268, Southwest Power Pool, Inc.

Docket No. ER18-1299, Westar Energy, Inc.

Docket No. ER18-1309, Southwest Power Pool, Inc.

Docket No. ER18-1315, Southwest Power Pool, Inc.

Docket No. ER18-1323, Southwest Power Pool, Inc.

Docket No. ER18-1326, Southwest Power Pool, Inc.

Docket No. RR18-3, North American Electric Reliability Corp.

Docket No. TX18-1, AEP Energy Partners, Inc.

This meeting is open to the public.

For more information, contact Patrick Clarey, Office of Energy Market Regulation, Federal Energy Regulatory Commission at (317) 249-5937 or patrick.clarey@ferc.gov.

Dated: April 13, 2018.
Nathaniel J. Davis, Sr.,
Deputy Secretary.

[FR Doc. 2018-08169 Filed 4-18-18; 8:45 am]

BILLING CODE 6717-01-P